DEPARTMENT OF THE INTERIOR

Fish and Wildlife Service

[FWS-R4-ES-2018-N139; FXES11140400000-189-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by March 25, 2019.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE 21570C-1 | Tennessee Wildlife Resources Agency, Nashville, TN | Alabama cavefish (Speoplatyrhinus poulsoni), Laurel Dace (Chrosomus saylori), Bluemask darter (Etheostoma akatulo), Boulder darter (Etheostoma wapiti), Cherokee darter (Etheostoma scotti), Cumberland darter (Etheostoma susanae), Diamond darter (Crystallaria cincotta), Duskytail darter (Etheostoma percnurum), Etowah darter (Etheostoma etowahae), Fountain darter (Etheostoma fonticola), Kentucky arrow darter (Etheostoma spilotum), Okaloosa darter (Etheostoma okaloosae), Pearl darter (Percina aurora), Relict darter (Etheostoma chienense), Rush darter (Etheostoma phytophilum), Vermilion darter (Etheostoma chermocki), Watercress darter (Etheostoma nuchale), Yellowcheek darter (Etheostoma moorei), Conasauga logperch (Percina jenkinsi), Roanoke logperch (Percina rex), Chucky madtom (Noturus crypticus), Pygmy madtom (Noturus stanauli), Scioto madtom (Noturus trautmani), Smoky madtom (Noturus baileyi), Cahaba shiner (Notropis cahabae), Palezone shiner (Notropis albizonatus), Alabama sturgeon (Scaphirhynchus suttkusi), Pallid sturgeon (Scaphirhynchus albus), White sturgeon (Acipenser transmontanus), and Spring pygmy sunfish (Elassoma alabamae) | Tennessee | Captive propagation and release | Collect, transport, hold in captivity for more than 45 consecutive days, release | Amendment.
TE 94849B-1 | Copperhead Environmental Consulting, Paint Lick, KY | Indiana bat (Myotis sodalis) | Alabama | Determine pregnancy timing | Collect blood samples | Amendment.
TE 02332D-0 | Michelle Gilley, Mars Hill, NC | Gray bats (Myotis grisescens), Indiana bats (Myotis sodalis), Northern long-eared bats (Myotis septentrionalis), Virginia big-eared bats (Corynorhinus townsendii virginianus), and Carolina northern flying squirrel (Glaucomys sabrinus coloratus) | Bats: Alabama, Arkansas, Connecticut, Delaware, Florida, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, Wisconsin, and Wyoming. Carolina northern flying squirrel: North Carolina, Tennessee, and Virginia | Presence/absence surveys, population monitoring, and studies to document habitat use | Bats: Capture with mist nets and harp traps, handle, identify, band, radio-tag, collect hair samples, and wing-punch. Carolina northern flying squirrel: Capture in nest boxes or live traps, handle, radio-tag, collect hair samples, and ear tag | New.
TE 05528D-0 | John Manuel, Asheville, NC | Gray bats (Myotis grisescens), Indiana bats (Myotis sodalis), and Northern long-eared bats (Myotis septentrionalis) | Alabama, Arkansas, Connecticut, Delaware, District of Columbia, Florida, Georgia, Illinois, Indiana, Iowa, Kansas, Kentucky, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys, habitat assessments, population dynamics evaluations, and migration research | Enter hibernacula or maternity roost caves, capture with mist nets or harp traps, handle, identify, band, radio-tag, collect hair samples, wing-punch, and swab | New.
TE 95412A-0 | Kentucky Division of Water, Frankfort, KY | Big Sandy crayfish (Cambarus callainus), Blackside dace (Chrosomus cumberlandensis), Cumberland darter (Etheostoma susanae), Duskytail darter (Etheostoma percnurum), Kentucky arrow darter (Etheostoma spilotum), Palezone shiner (Notropis albizonatus), Relict darter (Etheostoma chienense), Clubshell (Pleurobema clava), Cumberland bean (Villosa trabalis), Cumberland combshell (Epioblasma brevidens), Cumberland elktoe (Alasmidonta atropurpurea), Dromedary pearlymussel (Dromus dromas), Fanshell (Cyprogenia stegaria), Fat pocketbook (Potamilus capax), Fluted kidneyshell (Ptychobranchus subtentum), Littlewing pearlymussel (Pegias fabula), Northern riffleshell (Epioblasma torulosa rangiana), Orangefoot pimpleback (Plethobasus cooperianus), Oyster mussel (Epioblasma capsaeformis), Pink mucket (Lampsilis abrupta), Purple cat's paw (Epioblasma obliquata obliquata), Rabbitsfoot (Quadrula cylindrica cylindrica), Rayed bean (Villosa fabalis), Ring pink (Obovaria retusa), Rough pigtoe (Pleurobema plenum), Scaleshell mussel (Leptodea leptodon), Sheepnose mussel (Plethobasus cyphyus), Slabside pearlymussel (Pleuronaia dolabelloides), Snuffbox mussel (Epioblasma triquetra), Spectaclecase (Cumberlandia monodonta), and Tan riffleshell (Epioblasma florentina walkeri (=E. walkeri)) | Kentucky | Presence/absence surveys | Collect, handle, and release | New.

Authority

We publish this notice under section 10(c) of the Endangered Species Act of 1973, as amended (16 U.S.C. 1531 et seq.).

Franklin Arnold,
Acting Assistant Regional Director, Ecological Services, Southeast Region.

[FR Doc. 2019-02914 Filed 2-20-19; 8:45 am]

BILLING CODE 4333-15-P